DEPARTMENT OF LABOR

Employment and Training Administration

[TA-W-71,118]

Rexnord Industries, LLC Industrial Chain and Conveyor Division Including On-Site Leased Workers From Stivers West Milwaukee, WI; Amended Certification Regarding Eligibility To Apply for Worker Adjustment Assistance

In accordance with Section 223 of the Trade Act of 1974, as amended (“Act”), 19 U.S.C. 2273, the Department of Labor issued a Certification of Eligibility to Apply for Worker Adjustment Assistance on March 11, 2010, applicable to workers of Rexnord Industries, LLC, Industrial Chain and Conveyor Division, including on-site leased workers from Stivers, West Milwaukee, Wisconsin. The notice was published in the Federal Register on April 23, 2010 (75 FR 21354).

At the request of the State Agency, the Department reviewed the certification for workers of the subject firm. The workers are engaged in activities related to the production of mechanical power transmission equipment.

The review shows that on September 7, 2006, a certification of eligibility to apply for adjustment assistance was issued for all workers of Rexnord Industries, LLC, Industrial Chain and Conveyor Division, Milwaukee, Wisconsin, separated from employment on or after July 20, 2005, through September 7, 2008. The Department's Notice was published in the Federal Register on September 21, 2006 (71 FR 55218).

In order to avoid an overlap in worker group coverage, the Department is amending the June 9, 2008 impact date established for TA-W-71,118, to read September 8, 2008.

The amended notice applicable to TA-W-71,118 is hereby issued as follows:

All workers of Rexnord Industries, LLC, Industrial Chain and Conveyor Division, including on-site leased workers from Stivers, West Milwaukee, Wisconsin, who became totally or partially separated from employment on or after September 8, 2008, through March 11, 2012, and all workers in the group threatened with total or partial separation from employment on date of certification through two years from the date of certification, are eligible to apply for adjustment assistance under Chapter 2 of Title II of the Trade Act of 1974, as amended.

Signed in Washington, DC, this 4th day of May, 2010.
Del Min Amy Chen,
Certifying Officer, Division of Trade Adjustment Assistance.

[FR Doc. 2010-12114 Filed 5-19-10; 8:45 am]

BILLING CODE 4510-FN-P